DEPARTMENT OF DEFENSE

Department of the Air Force

[Docket ID: USAF-2016-HQ-0003]

Privacy Act of 1974; System of Records

AGENCY: Department of the Air Force, DoD.

ACTION: Notice to alter a System of Records.

SUMMARY: The Department of the Air Force proposes to alter a system of records notice, System Identifier, F036 AFMC D, entitled “Education/Training Management System (ETMS)” to collect education and training information that will support the needs of the education and training communities located at Headquarters Air Force Materiel Command and subordinate units.

DATES: Comments will be accepted on or before May 9, 2016. This proposed action will be effective the date following the end of the comment period unless comments are received which result in a contrary determination.

ADDRESSES: You may submit comments, identified by docket number and title, by any of the following methods:

* Federal Rulemaking Portal: http://www.regulations.gov.

Follow the instructions for submitting comments.

* Mail: ODCMO, Directorate for Oversight and Compliance, 4800 Mark Center Drive, Attn: Mailbox 24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. LaDonne L. White, Department of the Air Force Privacy Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Division Web site at http://dpcld.defense.gov/. The proposed systems reports, as required by 5 U.S.C. 552a(r) of the Privacy Act of 1974, as amended, were submitted on March 28, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 1, 2016.
Aaron Siegel,
Alternate OSD Federal Register Liaison Officer, Department of Defense.

F036 AFMC D

System name:

Education/Training Management System (ETMS) (June 11, 1997, 62 FR 31793)

* * * * *

Changes:

* * * * *

System name:

Delete entry and replace with “Education and Training Management System (ETMS)”

System location:

Delete entry and replace with “Headquarters Air Force Materiel Command (HQ AFMC), 4375 Chidlaw Road, Wright-Patterson Air Force Base, Ohio 45433-5006.”

Categories of individuals covered by the system:

Delete entry and replace with “Air Force active duty personnel and civilian employees, National Guard, and Reserve personnel.”

Categories of records in the system:

Delete entry and replace with “Name, Social Security Number (SSN), date of birth, home address, personal telephone numbers, personal email address, degree earned and year, courses taken, date of hire and employment end date, supervisory level attained, pay plan and grade, series, rank, Air Force Specialty Code, and duty title. Acquisition license history to include occupational certifications, acquisition level and date attained. Training course dates, course codes, course titles, and hours completed.”

Authority for maintenance of the system:

Delete entry and replace with “10 U.S.C. 8013, Secretary of the Air Force; Air Force Materiel Command Instruction (AFMCI) 36-401, Employee Training and Development; Title 5 U.S.C. Chapter 41: Training; (EEO) Act of 1972 (PL 92-261); and E.O. 9397 (SSN), as amended.”

Purpose(s):

Delete entry and replace with “To collect education and training information that will support the needs of the education and training communities located at Headquarters Air Force Materiel Command and subordinate units.”

Routine uses of records maintained in the system including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

The DoD Blanket Routine Uses set forth at the beginning of the Air Force complilation of system of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Electronic storage media.”

Retrievability:

Delete entry and replace with “Name and/or SSN”.

Safeguards:

Delete entry and replace with “Records are maintained in a secure facility on the installation; physical entry is restricted by security guards and presentation of authenticated identification badges at entry control points, and cipher locks and key cards for access into buildings. Records are accessed by the custodian of the record system and by person(s) responsible for servicing the record system in the performance of their official duties using Common Access Cards. Persons are properly screened and cleared for access. The information is protected by using user profiles, passwords, and encryption.

User profiles are role-based and ensure that only data accessible to the individual's role will appear on the screen.”

Retention and disposal:

Delete entry and replace with “Records are destroyed 10 years after the individual completes or discontinues a training course, when superseded, obsolete, or training is completed and posted to the employees official personnel record. Computer records are destroyed by erasing, deleting, or overwriting.”

System manager(s) and address:

Delete entry and replace with “Directorate of Manpower, Personnel, and Services, HQ AFMC/A1DS, Headquarters Air Force Materiel Command (HQ AFMC), 4375 Chidlaw Road, Wright-Patterson Air Force Base, Ohio 45433-5006.”

Notification procedure:

Delete entry and replace with “Individuals seeking to determine whether information about themselves is contained in this system of records should address written inquiries to Directorate of Manpower, Personnel, and Services, HQ AFMC/A1DS, Headquarters Air Force Materiel Command (HQ AFMC), 4375 Chidlaw Road, Wright-Patterson Air Force Base, Ohio 45433-5006.”

For verification purposes, individual should provide their name, SSN, and any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

Record access procedures:

Delete entry and replace with “Individuals seeking access to information about themselves contained in this system of records should address written requests to Directorate of Manpower, Personnel, and Services, HQ AFMC/A1DS, Headquarters Air Force Materiel Command (HQ AFMC), 4375 Chidlaw Road, Wright-Patterson Air Force Base, Ohio 45433-5006.

For verification purposes, individual should provide their name, SSN, and any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: `I declare (or certify, verify, or state) under penalty of perjury that the foregoing is true and correct. Executed on (date). (Signature)'.”

Contesting records procedures:

Delete entry and replace with “The Air Force rules for accessing records and for contesting contents and appealing initial agency determinations are published in Air Force Instruction 33-332, The Air Force Privacy and Civil Liberties Program; 32 CFR part 806b, and may be obtained from the system manager.”

Record source categories:

Delete entry and replace with “Individual, Military Personnel Data System (MILPDS), Defense Civilian Personnel Data System (DCPDS), Air Force Directory Service (AFDS), and Automated Distributed Learning System (ADLS)

* * * * *

[FR Doc. 2016-07953 Filed 4-6-16; 8:45 am]

BILLING CODE 5001-06-P